DEPARTMENT OF COMMERCE

Foreign-Trade Zones Board

[Docket 50-2009]

Foreign-Trade Zone 175—Cedar Rapids, IA; Application for Subzone; Deere & Company (Agricultural Tractors and Related Components Manufacturing); Waterloo, IA

An application has been submitted to the Foreign-Trade Zones Board (the Board) by the Cedar Rapids Airport Commission, grantee of FTZ 175, requesting special-purpose subzone status for the agricultural tractors, cabs, engines and components manufacturing facilities of Deere & Company (Deere), located in Waterloo, Iowa. The application was submitted pursuant to the provisions of the Foreign-Trade Zones Act, as amended (19 U.S.C. 81a-81u), and the regulations of the Board (15 CFR part 400). It was formally filed on November 12, 2009.

The Deere facilities (approximately 4,000 employees) consist of 6 sites on approximately 1,437.58 acres in Waterloo, Iowa: Site 1 (1,002.41 acres, 2,000,000 enclosed square feet) tractor and cab assembly operations located at 3500 E. Donald Street; Site 2 (257.63 acres, 3,000,000 enclosed square feet) drivetrain, foundry & service parts operations located at 400 and 2000 Westfield Ave.; Site 3 (26.22 acres, 276,480 enclosed square feet) Ryder warehouse and servicing facility located at 2280 Northeast Drive; Site 4 (25 acres, 166,000 square feet) Waterloo warehouse located at 1519 W. Airline Hwy.; Site 5 (20.37 acres, 242,240 square feet) FirstCo warehouse located at 3470 W. Airline Hwy.; and Site 6 (105.95 acres, 1,137,213 enclosed square feet) Engine Works facility located at 3801 W. Ridgeway Ave. The facilities are used for the manufacture, testing, warehousing and distribution of: Medium and large row crop tractors (wheel and track versions); cab assemblies; marine and industrial diesel engines; drivetrain components; wheel assemblies; cast iron forgings; and, parts and components for these products. The Deere facilities annually can produce up to 45,000 tractors and engines, 45,000 cabs, 90,000 drivetrain units, 140,000 tons of foundry products, and $150 million of service parts and components. Components and materials sourced from abroad (representing 13 to 18% of the value of the finished products) include: putty and caulking compounds; glues and adhesives; self-adhesive plates; articles of plastic (incl. tubes, hoses, fittings, stoppers and lids); articles of rubber (incl. belts, tubes, hoses, grommets, plugs, mountings, sheets, strips); tires; floor coverings and mats; mirrors; gaskets; washers; paperboard; safety glass; iron tubes; pipes and fittings; chain; fasteners; springs; articles of copper; articles of steel; base metal mountings; sign plates; internal-combustion engines and parts; pumps; air conditioner components; refrigerators; filters; spraying machines; agricultural machinery and parts; valves; bearings; transmission shafts; electric motors; generators; clutches; brakes; ignitions; electromagnetic couplings; gears; flywheels; pulleys; antennas; windshield wipers; electrical lighting or signaling equipment; loudspeakers; heaters; defrosters; alarms; radios; clocks; resistors; switches; relays; lamps; wires; cables; seats; locks and keys; discs; tapes and media storage; motor vehicle parts and accessories; gauges; measuring instruments; geophysical instruments and appliances; desk equipment and parts (duty rates—free to 12.2%).

FTZ procedures could exempt Deere from customs duty payments on the foreign components used in export production. The company anticipates that some 30 to 35 percent of the facilities' shipments will be exported. On its domestic sales, Deere would be able to choose the duty rates during customs entry procedures that apply to its finished products (duty rates range between free and 8.6%) for the foreign inputs noted above. FTZ designation would further allow Deere to realize scrap benefits and certain logistical benefits through the use of customs procedures. Customs duties also could possibly be deferred or reduced on foreign status production equipment. The request indicates that the savings from FTZ procedures would help improve the plant's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is January 19, 2010. Rebuttal comments in response to material submitted during the foregoing period may be submitted during the subsequent 15-day period to February 1, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For Further Information Contact: Diane Finver at Diane.Finver@trade.gov or (202) 482-1367.

Dated: November 12, 2009.
Andrew McGilvray,
Executive Secretary.

[FR Doc. E9-27683 Filed 11-17-09; 8:45 am]

BILLING CODE 3510-DS-P